DEPARTMENT OF TRANSPORTATION

Federal Aviation Administration

14 CFR Part 39

[Docket No. FAA-2008-0790; Directorate Identifier 2008-CE-042-AD; Amendment 39-15715; AD 2008-22-18]

RIN 2120-AA64

Airworthiness Directives; Cessna Aircraft Company 150 Series Airplanes

AGENCY: Federal Aviation Administration (FAA), Department of Transportation (DOT).

ACTION: Final rule.

SUMMARY: We are adopting a new airworthiness directive (AD) for certain Cessna Aircraft Company (Cessna) 150 series airplanes with the BRS-150 Parachute System installed via Supplemental Type Certificate (STC) SA64CH. This AD requires you to replace the pick-up collar support and nylon screws for the BRS-150 Parachute System. This AD results from notification by Ballistic Recovery Systems, Inc. (BRS) that the pick-up collar assembly may prematurely move off the launch tube and adversely affect rocket trajectory during deployment. We are issuing this AD to prevent premature separation of the collar. This condition could result in the parachute failing to successfully deploy.

DATES: This AD becomes effective on December 9, 2008.

On December 9, 2008, the Director of the Federal Register approved the incorporation by reference of certain publications listed in this AD.

ADDRESSES: For service information identified in this AD, contact Ballistic Recovery Systems, Inc., 380 Airport Road, South Saint Paul, MN 55075-3551; telephone: (651) 457-7491; fax: (651) 457-8651; e-mail: dkuefler@brsparachutes.com; Internet: http://www.brsparachutes.com.

To view the AD docket, go to U.S. Department of Transportation, Docket Operations, M-30, West Building Ground Floor, Room W12-140, 1200 New Jersey Avenue, SE., Washington, DC 20590, or on the Internet at http://www.regulations.gov. The docket number is FAA-2008-0790; Directorate Identifier 2008-CE-042-AD.

FOR FURTHER INFORMATION CONTACT: Gregory Michalik, Senior Aerospace Engineer, Chicago Aircraft Certification Office, FAA, 2300 East Devon Avenue, Des Plaines, Illinois 60018; telephone: (847) 294-7135; fax: (847) 294-7834; e-mail: gregory.michalik@faa.gov.

SUPPLEMENTARY INFORMATION:

Discussion

On June 30, 2008, we issued a proposal to amend part 39 of the Federal Aviation Regulations (14 CFR part 39) to include an AD that would apply to certain Model 150 Series airplanes. This proposal was published in the Federal Register as a notice of proposed rulemaking (NPRM) on July 18, 2008 (73 FR 41305). The NPRM proposed to replace the pick-up collar support and nylon screws for the BRS-150 Parachute System.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 6 airplanes in the U.S. registry.

We estimate the following costs to do the modification:

Labor cost | Parts cost | Total cost per airplane | Total cost on U.S. operators
5 work-hours × $80 per hour = $400 | Not applicable | $400 | $2,400

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2008-0790; Directorate Identifier 2008-CE-042-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2008-22-18 Cessna Aircraft Company: Amendment 39-15715; Docket No. FAA-2008-0790; Directorate Identifier 2008-CE-042-AD.

Effective Date

(a) This AD becomes effective on December 9, 2008.

Affected ADs

(b) None.

Applicability

(c) This AD applies to Models 150, 150A, 150B, 150C, 150D, 150E, 150F, 150G, 150H, 150J, 150K, A150K, 150L, A150L, 150M, A150M, 152, and A152 airplanes that:

(1) Have a BRS-150 Parachute System with a serial number in the range of 50001 through 50006 installed via Supplemental Type Certificate (STC) SA64CH; and

(2) Are certificated in any category.

Unsafe Condition

(d) This AD results from notification by Ballistic Recovery Systems, Inc. (BRS) that the pick-up collar assembly may prematurely move off the launch tube and adversely affect rocket trajectory during deployment. We are issuing this AD to prevent premature separation of the collar. This condition could result in the parachute failing to successfully deploy.

Compliance

(e) To address this problem, you must do the following, unless already done:

Actions | Compliance | Procedures
Remove the pick-up collar support, nylon screws, and launch tube and replace with a new pick-up collar support, custom tension screws, and new launch tube | Within the next 25 hours time-in-service after December 9, 2008 (the effective date of this AD) | Follow BRS Service Bulletin SB 2008-04-01 R1, issued April 24, 2008.

Alternative Methods of Compliance (AMOCs)

(f) The Manager, Chicago Aircraft Certification Office (ACO), FAA, has the authority to approve AMOCs for this AD, if requested using the procedures found in 14 CFR 39.19. Send information to Attn: Gregory Michalik, Senior Aerospace Engineer, Chicago ACO, FAA, 2300 East Devon Avenue, Des Plaines, Illinois 60018; telephone: (847) 294-7135; fax: (847) 294-7834; e-mail: gregory.michalik@faa.gov. Before using any approved AMOC on any airplane to which the AMOC applies, notify your appropriate principal inspector (PI) in the FAA Flight Standards District Office (FSDO), or lacking a PI, your local FSDO.

Material Incorporated by Reference

(g) You must use BRS Service Bulletin SB 2008-04-01 R1, issued April 24, 2008, to do the actions required by this AD, unless the AD specifies otherwise.

(1) The Director of the Federal Register approved the incorporation by reference of this service information under 5 U.S.C. 552(a) and 1 CFR part 51.

(2) For service information identified in this AD, contact Ballistic Recovery Systems, Inc., 380 Airport Road, South Saint Paul, MN 55075-3551; telephone: (651) 457-7491; fax: (651) 457-8651; e-mail: dkuefler@brsparachutes.com; Internet: http://www.brsparachutes.com.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on October 21, 2008.
John Colomy,
Acting Manager, Small Airplane Directorate, Aircraft Certification Service.

[FR Doc. E8-25762 Filed 11-3-08; 8:45 am]

BILLING CODE 4910-13-P